DEPARTMENT OF HEALTH AND HUMAN SERVICES

Indian Health Service

RIN 0917-AA22

Reimbursement Rates for Calendar Year 2023

AGENCY: Indian Health Service, HHS.

ACTION: Notice.

SUMMARY: Notice is provided that the Director of the Indian Health Service (IHS) has approved the rates for inpatient and outpatient medical care provided by the IHS facilities for Calendar Year 2023.

SUPPLEMENTARY INFORMATION:

Background

The Director of the Indian Health Service (IHS), under the authority of sections 321(a) and 322(b) of the Public Health Service Act (42 U.S.C. 248 and 249(b)), Public Law 83-568 (42 U.S.C. 2001(a)), and the Indian Health Care Improvement Act (25 U.S.C. 1601 et seq.), has approved the following rates for inpatient and outpatient medical care provided by IHS facilities for Calendar Year 2023 for Medicare and Medicaid beneficiaries, beneficiaries of other federal programs, and for recoveries under the Federal Medical Care Recovery Act (42 U.S.C. 2651-2653). The inpatient rates for Medicare Part A are excluded from the table below. That is because Medicare inpatient payments for IHS hospital facilities are made based on the prospective payment system, or (when IHS facilities are designated as Medicare Critical Access Hospitals) on a reasonable cost basis. Since the inpatient per diem rates set forth below do not include all physician services and practitioner services, additional payment shall be available to the extent that those services are provided.

Inpatient Hospital per Diem Rate (Excludes Physician/Practitioner Services)

Calendar Year 2023

Lower 48 States $4,333

Alaska $3,478

Outpatient per Visit Rate (Excluding Medicare)

Calendar Year 2023

Lower 48 States $654

Alaska $862

Outpatient per Visit Rate (Medicare)

Calendar Year 2023

Lower 48 States $620

Alaska $801

Medicare Part B Inpatient Ancillary per Diem Rate

Calendar Year 2023

Lower 48 States $829

Alaska $1,066

Outpatient Surgery Rate (Medicare)

Established Medicare rates for freestanding Ambulatory Surgery Centers.

Effective Date for Calendar Year 2023 Rates

Consistent with previous annual rate revisions, the Calendar Year 2023 rates will be effective for services provided on or after January 1, 2023, to the extent consistent with payment authorities, including the applicable Medicaid State plan.

Roselyn Tso,
Director, Indian Health Service.

[FR Doc. 2023-03896 Filed 2-24-23; 8:45 am]

BILLING CODE 4165-16-P